DEPARTMENT OF HOMELAND SECURITY

[Docket No. DHS-2022-0004]

Homeland Security Academic Advisory Council

AGENCY: The Department of Homeland Security (DHS), Office of Partnership and Engagement (OPE).

ACTION: Notice of reestablished Federal advisory committee.

SUMMARY: The Secretary of Homeland Security (Secretary) is reestablishing the Homeland Security Academic Advisory Council (HSAAC), a discretionary federal advisory committee. The primary purpose of the HSAAC will be to provide advice and recommendations to the Secretary and DHS senior leadership on matters related to homeland security and the academic community.

FOR FURTHER INFORMATION CONTACT: Acting Executive Director Traci Silas via email at DHSAcademic@hq.dhs.gov or via phone at 202-603-1142.

SUPPLEMENTARY INFORMATION: The HSAAC will consist of up to 30 members who are appointed by and serve at the pleasure of the Secretary of Homeland Security. Members are appointed as representative members, except that members from federal agencies are appointed as non-voting ex-officio members. To ensure a diverse, inclusive and balance membership, candidates include:

(a) Up to four members representing higher education associations.

(b) Up to two members representing higher education law enforcement, public safety, and emergency management associations.

(c) Up to two members representing four-year colleges and universities.

(d) Up to two members representing two-year community colleges.

(e) Up to two members representing Historically Black Colleges and Universities (HBCUs).

(f) Up to two members representing Hispanic serving institutions.

(g) Up to two members representing Tribal colleges.

(h) Up to two members representing the Asian American, Native American and Pacific Islander serving institutions.

(i) Up to four members representing K-12 school systems, to include schools, school systems, and state educational agencies.

(j) Up to two members representing Education Employee Associations/Labor Organizations.

(k) Up to one member from the DHS Science and Technology Center of Excellence.

(l) Up to one member from Cybersecurity and Infrastructure Security Agency (CISA) School Safety Task Force.

(m) Up to one member from the DHS Center for Prevention Programs and Partnership.

(n) Up to one member from US Secret Service National Threat Assessment Center.

(o) Up to one member from Federal Emergency Management Agency (FEMA) higher education initiatives.

(p) Up to one member from the DHS Office for Civil Right and Civil Liberties (CRCL).

(q) Up to one member from the Department of Education.

(r) Up to one member from the Department of State.

(s) Up to one member from the Department of Justice.

(t) Up to one member from the Department of Health and Human Services.

HSAAC is the sole advisory committee and public forum within DHS providing advice on matters relating to DHS's engagement with the academic community.

The HSAAC will operate in an advisory capacity only. The establishment of the HSAAC is necessary and in the public interest. This notice is provided in accordance with the Federal Advisory Committee Act (“FACA”), as amended, 5 U.S.C. App. The HSAAC will terminate two years from the date of its establishment, unless renewed by the Secretary.

Zarinah T. Silas,
Acting Executive Director and Acting Designated Federal Officer.

[FR Doc. 2022-00454 Filed 1-11-22; 8:45 am]

BILLING CODE 9112-FN-P